DEPARTMENT OF ENERGY

Federal Energy Regulatory Commission

Combined Notice of Filings #1

Take notice that the Commission received the following electric corporate filings:

Docket Numbers: EC19-62-000.

Applicants: RE Mustang LLC, RE Mustang 3 LLC, RE Mustang 4 LLC.

Description: Application for Authorization Under Section 203 of the Federal Power Act, et al. of RE Mustang LLC, et al.

Filed Date: 2/27/19.

Accession Number: 20190227-5204.

Comments Due: 5 p.m. ET 3/20/19.

Take notice that the Commission received the following electric rate filings:

Docket Numbers: ER17-801-003.

Applicants: Constellation Power Source Generation, LLC.

Description: Compliance filing: Informational Filing Regarding Gould Street Deactivation to be effective N/A.

Filed Date: 3/1/19.

Accession Number: 20190301-5159.

Comments Due: 5 p.m. ET 3/22/19.

Docket Numbers: ER18-1639-003.

Applicants: Constellation Mystic Power, LLC.

Description: Compliance filing: Mystic Agreement Compliance Filing to be effective 6/1/2022.

Filed Date: 3/1/19.

Accession Number: 20190301-5209.

Comments Due: 5 p.m. ET 3/22/19.

Docket Numbers: ER19-601-002.

Applicants: AEP Energy Partners, Inc., Appalachian Power Company, Indiana Michigan Power Company, Kentucky Power Company, Kingsport Power Company, Wheeling Power Company, Public Service Company of Oklahoma, AEP Texas Inc., Southwestern Electric Power Company.

Description: Tariff Amendment: MBR Tariff, FERC Electric Tariff for Market Based Sales to be effective 3/1/2019.

Filed Date: 2/28/19.

Accession Number: 20190228-5005.

Comments Due: 5 p.m. ET 3/14/19.

Docket Numbers: ER19-606-002.

Applicants: AEP Generation Resources Inc., Appalachian Power Company, Indiana Michigan Power Company, Kentucky Power Company, Kingsport Power Company, Wheeling Power Company, Public Service Company of Oklahoma, AEP Texas Inc., Southwestern Electric Power Company.

Description: Tariff Amendment: MBR Tariff, FERC Electric Tariff For Market-Based Sales to be effective 3/1/2019.

Filed Date: 2/28/19.

Accession Number: 20190228-5000.

Comments Due: 5 p.m. ET 3/14/19.

Docket Numbers: ER19-1139-000.

Applicants: AEP Generation Resources Inc., Appalachian Power Company, AEP Energy Partners, Inc., Indiana Michigan Power Company, Kentucky Power Company, Kingsport Power Company, Wheeling Power Company.

Description: § 205(d) Rate Filing: MBR AEP Operating Companies Market Based Rates Tariff to be effective 3/1/2019.

Filed Date: 2/28/19.

Accession Number: 20190228-5002.

Comments Due: 5 p.m. ET 3/14/19.

Docket Numbers: ER19-1140-000.

Applicants: Public Service Company of Oklahoma, AEP Texas Inc., Southwestern Electric Power Company, AEP Generation Resources Inc., AEP Energy Partners, Inc.

Description: § 205(d) Rate Filing: Market-Based Rates Tariff to be effective 3/1/2019.

Filed Date: 2/28/19.

Accession Number: 20190228-5003.

Comments Due: 5 p.m. ET 3/14/19.

Docket Numbers: ER19-1155-000.

Applicants: Black Hills Electric Generation, LLC.

Description: § 205(d) Rate Filing: Request for Authorization of Affiliate Transactions to be effective 4/29/2019.

Filed Date: 2/28/19.

Accession Number: 20190228-5272.

Comments Due: 5 p.m. ET 3/21/19.

Docket Numbers: ER19-1156-000.

Applicants: Midcontinent Independent System Operator, Inc.

Description: § 205(d) Rate Filing: 2019-02-28_Revisions to Cost Allocation for Interregional Economic Projects to be effective 6/28/2019.

Filed Date: 2/28/19.

Accession Number: 20190228-5273.

Comments Due: 5 p.m. ET 4/1/19.

Docket Numbers: ER19-1157-000.

Applicants: Cottonwood Energy Company LP.

Description: Tariff Cancellation: Notice of Cancellation partial to be effective 2/28/2019.

Filed Date: 3/1/19.

Accession Number: 20190301-5003.

Comments Due: 5 p.m. ET 3/22/19.

Docket Numbers: ER19-1158-000.

Applicants: Midcontinent Independent System Operator, Inc.

Description: § 205(d) Rate Filing: 2019-03-01_Uninstructed Deviations True-Up Filing to be effective 5/1/2019.

Filed Date: 3/1/19.

Accession Number: 20190301-5050.

Comments Due: 5 p.m. ET 3/22/19.

Docket Numbers: ER19-1159-000.

Applicants: Southwest Power Pool, Inc.

Description: § 205(d) Rate Filing: Revisions to Attachment M Appendix 1 to Update the Loss Factor for SPS to be effective 4/1/2019.

Filed Date: 3/1/19.

Accession Number: 20190301-5054.

Comments Due: 5 p.m. ET 3/22/19.

Docket Numbers: ER19-1160-000.

Applicants: Duke Energy Progress, LLC.

Description: § 205(d) Rate Filing: DEP-NCEMC RS No. 182 (Sixth Amended) to be effective 1/1/2018.

Filed Date: 3/1/19.

Accession Number: 20190301-5118.

Comments Due: 5 p.m. ET 3/22/19.

Docket Numbers: ER19-1161-000.

Applicants: El Paso Electric Company.

Description: Notice of Termination of Large Generator Interconnection Agreement of El Paso Electric Company.

Filed Date: 2/28/19.

Accession Number: 20190228-5345.

Comments Due: 5 p.m. ET 3/21/19.

Docket Numbers: ER19-1162-000.

Applicants: Calpine Mid Merit, LLC.

Description: § 205(d) Rate Filing: Filing of Easement, Shared Facilities and Support Agreement to be effective 3/2/2019.

Filed Date: 3/1/19.

Accession Number: 20190301-5200.

Comments Due: 5 p.m. ET 3/22/19.

Docket Numbers: ER19-1163-000.

Applicants: PJM Interconnection, L.L.C.

Description: Tariff Cancellation: Notice of Cancellation of ISA SA No. 4620, Queue No. AA1-085 to be effective 4/26/2019.

Filed Date: 3/1/19.

Accession Number: 20190301-5230.

Comments Due: 5 p.m. ET 3/22/19.

Docket Numbers: ER19-1164-000.

Applicants: Constellation Mystic Power, LLC.

Description: § 205(d) Rate Filing: Mystic Agreement Amendment Filing to be effective 6/1/2022.

Filed Date: 3/1/19.

Accession Number: 20190301-5240.

Comments Due: 5 p.m. ET 3/22/19.

Docket Numbers: ER19-1165-000.

Applicants: AEP Generation Resources Inc.

Description: § 205(d) Rate Filing: Reactive Supply and Voltage Control Cardinal & Conesville to be effective 6/1/2019.

Filed Date: 3/1/19.

Accession Number: 20190301-5242.

Comments Due: 5 p.m. ET 3/22/19.

Docket Numbers: ER19-1166-000.

Applicants: ISO New England Inc.

Description: Thirteenth Forward Capacity Auction Results of ISO New England Inc.

Filed Date: 2/28/19.

Accession Number: 20190228-5357.

Comments Due: 5 p.m. ET 4/12/19.

Docket Numbers: ER19-1167-000.

Applicants: Duke Energy Carolinas, LLC.

Description: Notice of Cancellation of Conforming Jurisdictional Agreements of Duke Energy Carolinas, LLC.

Filed Date: 2/28/19.

Accession Number: 20190228-5358.

Comments Due: 5 p.m. ET 3/21/19.

Docket Numbers: ER19-1168-000.

Applicants: Pacific Gas and Electric Company.

Description: Notice of Termination of Small Generator Interconnection Agreement Service Agreement No. 131 of Pacific Gas and Electric Company.

Filed Date: 2/28/19.

Accession Number: 20190228-5359.

Comments Due: 5 p.m. ET 3/21/19.

Docket Numbers: ER19-1169-000.

Applicants: Northern Indiana Public Service Company.

Description: § 205(d) Rate Filing: Filing of a CIAC Agreement to be effective 2/26/2019.

Filed Date: 3/1/19.

Accession Number: 20190301-5269.

Comments Due: 5 p.m. ET 3/22/19.

Docket Numbers: ER19-1170-000.

Applicants: Pacific Gas and Electric Company.

Description: Notice of Termination of Generator Interconnection and Special Facilities Agreement Service Agreement No. 10 of Pacific Gas and Electric Company.

Filed Date: 2/28/19.

Accession Number: 20190228-5363.

Comments Due: 5 p.m. ET 3/21/19.

Docket Numbers: ER19-1171-000.

Applicants: Wisconsin Electric Power Company.

Description: § 205(d) Rate Filing: 2017 Formula Rate Update Filing to be effective 9/2/2017.

Filed Date: 3/1/19.

Accession Number: 20190301-5289.

Comments Due: 5 p.m. ET 3/22/19.

Docket Numbers: ER19-1172-000.

Applicants: Wisconsin Electric Power Company.

Description: § 205(d) Rate Filing: 2018 Formula Rate Update Filing to be effective 1/1/2018.

Filed Date: 3/1/19.

Accession Number: 20190301-5290.

Comments Due: 5 p.m. ET 3/22/19.

Docket Numbers: ER19-1173-000.

Applicants: PJM Interconnection, L.L.C.

Description: § 205(d) Rate Filing: Clean-up to Schedule 12-Appx A Appendix (JCPL), (PSEG), and (Dominion) to be effective 1/31/2019.

Filed Date: 3/1/19.

Accession Number: 20190301-5291.

Comments Due: 5 p.m. ET 3/22/19.

Take notice that the Commission received the following electric reliability filings:

Docket Numbers: RR19-4-000.

Applicants: North American Electric Reliability Corporation, Florida Reliability Coordinating Council, Inc., SERC Reliability Corporation.

Description: Joint Petition of NERC, Florida Reliability Coordinating Council, Inc. and SERC Reliability Corporation for Approvals in Connection with the Dissolution of the Florida Reliability Coordinating Council, Inc.

Filed Date: 2/27/19.

Accession Number: 20190227-5193.

Comments Due: 5 p.m. ET 3/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2019.
Kimberly D. Bose,
Secretary.

[FR Doc. 2019-04146 Filed 3-6-19; 8:45 am]

BILLING CODE 6717-01-P